NATIONAL FOUNDATION ON THE ARTS AND THE HUMANITIES

Institute of Museum and Library Services

Submission for OMB Review, Comment Request, Proposed Collection Requests: State Library Administrative Agency Survey FY20 and FY22

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. By this notice, IMLS is soliciting comments concerning the continuance of the State Library Administrative Agencies Survey for FY 2020 and FY 2022.

A copy of the proposed information collection request can be obtained by contacting the individual listed below in the ADDRESSES section of this notice.

DATES: Written comments must be submitted to the office listed in the FOR FURTHER INFORMATION CONTACT section below on or before December 20, 2019.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Matthew Birnbaum, Institute of Museum and Library Services, 955 L'Enfant Plaza North SW, Suite 4000, Washington, DC 20024-2135. Dr. Birnbaum can be reached by Telephone: 202-653-4760, Fax: 202-653-4608, or by email at mbirnbaum@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: The State Library Administrative Agencies Survey has been conducted by the Institute of Museum and Library Services under the clearance number 3137-0072, which expires 01/31/2020. State Library Administrative Agencies (SLAAs) are the official agencies of each state charged by state law with the extension and development of public library services throughout the state. (20 U.S.C. Chapter 72, 20 U.S.C. 9122.) The purpose of this survey is to provide state and federal policymakers with information about SLAAs, including their governance, allied operations, developmental services to libraries and library systems, support of electronic information networks and resources, number and types of outlets, and direct services to the public. Through the FY 2010 collection, the SLAA Survey was conducted annually; beginning with the FY 2012 collection, the survey is conducted biennially. Because the FY 2020 collection will not begin until early 2021, we are carrying over the documentation and estimated burden associated with the FY 2018 data. This action is to request a new three year approval of the IMLS administered State Library Administrative Agencies Survey. The 60-day notice for the State Library Administrative Agencies Survey, FY 2020 & FY 2022, was published in the Federal Register on August 27, 2019 (84 FR 44943). No comments were received.

Agency: Institute of Museum and Library Services.

Title: State Library Administrative Agencies Survey, FY 2020.

OMB Number: 3137-0072.

Agency Number: 3137.

Affected Public: Federal, State and local governments, State library administrative agencies, libraries, general public.

Number of Respondents: 51.

Frequency: Biennially.

Burden Hours per Respondent: 25.

Total Burden Hours: 1,275.

Total Annual Costs: $287,304.

Dated: November 15, 2019.
Kim Miller,
Grants Management Specialist, Institute of Museum and Library Services.

[FR Doc. 2019-25122 Filed 11-19-19; 8:45 am]

BILLING CODE 7036-01-P